DEPARTMENT OF HEALTH AND HUMAN SERVICES

National Institutes of Health

National Institute on Aging; Notice of Closed Meetings

Pursuant to section 10(d) of the Federal Advisory Committee Act, as Amended (5 U.S.C. Appendix 2), notice is hereby given of the following meetings.

The meetings will closed to the public in accordance with the provisions set forth in sections 552b(c)(4) and 552b(c)(6), Title 5 U.S.C., as amended. The grant applications and the discussions could disclose confidential trade secrets or commercial property such as patentable material, and personal information concerning individuals associated with the grant applications, and the disclosure of which would constitute a clearly unwarranted invasion of personal privacy.

Name of Committee: National Institute on Aging Initial Review Group, Biological Aging Review Committee.

Date: June 5-6, 2000.

Time: 6 pm to 4 pm.

Agenda: To review and evaluate grant applications.

Place: Holiday Inn—Chevy Chase, Palladian East and Center Rooms, 5520 Wisconsin Avenue, Chevy Chase, MD 20815.

Contact Person: James P. Harwood, Phd, Deputy Chief, Scientific Review Office, The Bethesda Gateway Building, 7201 Wisconsin Avenue/Suite 2C212, Bethesda, MD 20892, (301) 496-9666.

Name of Committee: National Institute on Aging Initial Review Group, Neuroscience of Aging Review Committee.

Date: June 5-6, 2000.

Time: 7 pm to 2 pm.

Agenda: To review and evaluate grant applications.

Place: Gaithersburg Holiday Inn, Gaithersburg, MD 20879.

Contact Person: Louise L. Hsu, Phd, The Bethesda Gateway Buiding, 7201 Wisconsin Avenue/Suite 2C212, Bethesda, MD 20892, (301) 496-9666.

Name of Committee: National Institute on Aging Initial Review Group, Sociology Aging Review Committee.

Date: June 8, 2000.

Time: 11:30 am to 10 pm.

Agenda: To review and evaluate grant applications.

Place: Georgetown Holiday, Inn, 2101 Wisconsin Ave. NW., Washington, DC 20007.

Contact Person: Mary Ann Guadagno, Phd, Scientific Review Administrator, The Bethesda Gateway Building, 7201 Wisconsin Avenue/Suite 2C212, Bethesda, MD 20892, (301) 496-9666.

Name of Committee: National Institute on Aging Special Emphasis Panel, Small Grants in Sociology and Psychology.

Date: June 9, 2000.

Time: 9 am to 6 pm.

Agenda: To review, and evaluate grant applications.

Place: Georgetown Holiday Inn, 2101 Wisconsin Ave, NW, Washington, DC 20007.

Contact Person: Mary Ann Guadagno, Scientific Review Administrator, The Bethesda Gateway Building, 7201 Wisconsin Avenue 2C212, Bethesda, MD 20892, (301) 496-9666.

Name of Committee: National Institute on Aging Special Emphasis Panel, Grant application on a population-based, multidisciplinary study of centenarians.

Date: June 12, 2000.

Time: 1 pm to 3 pm.

Agenda: To review and evaluate grant applications.

Place: 7201 Wisconsin Ave., Suite 502C, MD 20891 (Telephone Conference Call).

Contact Person: Arthur Schaerdel, DVM, Scientific Review Administrator, The Bethesda Gateway Building, 7201 Wisconsin Avenue/Suite 2C212, Bethesda, MD 20892, (301) 496-9666.

Name of Committee: National Institute on Aging Initial Review Group, Clinical Aging Review Committee.

Date: June 16, 2000.

Time: 8 am to 7 pm.

Agenda: To review and evaluate grant applications.

Place: Marriott Pooks Hill, 5151 Pooks Hill Road, Bethesda, MD 20814.

Contact Person: William A. Kachadorian, Phd, The Bethesda Gateway Building, 7201 Wisconsin Avenue/Suite 2C212, Bethesda, MD 20892, (301) 496-9666.

Name of Committee: National Institute on Aging Special Emphasis Panel, Stress, the HPA, and Health in Aging.

Date: July 11, 2000.

Time: 8 am to 4 pm.

Agenda: To review and evaluate grant applications.

Place: Stanford Terrace Inn, 531 Stanford Avenue, Palo Alto, CA 94306.

Contact Person: Arthur Schaerdel, DVM, Scientific Review Administrator, The Bethesda Gateway Building, 7201 Wisconsin Avenue/Suite 2C212, Bethesda, MD 20892, (301) 496-9666.

(Catalogue of Federal Domestic Assistance Program Nos. 93.866, Aging Research, National Institutes of Health, HHS)

Dated: May 16, 2000.
LaVerne Y. Stringfield,
Director, Office of Federal Advisory Committee Policy.

[FR Doc. 00-12889 Filed 5-22-00; 8:45 am]

BILLING CODE 4140-01-M